DEPARTMENT OF HOMELAND SECURITY

Federal Emergency Management Agency

[Docket ID FEMA-2014-0002; Internal Agency Docket No. FEMA-B-1401]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before June 16, 2014.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1366, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

Community | Community map repository address
Wicomico County, Maryland, and Incorporated Areas
Maps Available for Inspection Online at: http://www.fema.gov/preliminaryfloodhazarddata
City of Fruitland | City Hall, 401 East Main Street, Fruitland, MD 21826.
City of Salisbury | City Hall, 125 North Division Street, Salisbury, MD 21801.
Town of Delmar | Town Hall, 100 South Pennsylvania Avenue, Delmar, MD 21875.
Town of Mardela Springs | Town Hall, 201 Station Street, Mardela Springs, MD 21837.
Town of Sharptown | Town Hall, 401 Main Street, Sharptown, MD 21861.
Town of Willards | Town Hall, 7360 Main Street, Willards, MD 21874.
Unincorporated Areas of Wicomico County | Wicomico County Government Office Building, 125 North Division Street, Room 201, Salisbury, MD 21801.
Accomack County, Virginia, and Incorporated Areas
Maps Available for Inspection Online at: http://www.fema.gov/preliminaryfloodhazarddata
Town of Belle Haven | Town Office, 15293 Kings Street, Belle Haven, VA 23306.
Town of Chincoteague | Town Hall, 6150 Community Drive, Chincoteague, VA 23336.
Town of Onancock | Town Hall, 15 North Street, Onancock, VA 23417.
Town of Saxis | Town Hall, 8334 Freeschool Lane, Saxis, VA 23427.
Town of Tangier | Town Hall, 4301 Joshua Thomas Lane, Tangier, VA 23440.
Town of Wachapreague | Town Hall, 6 Main Street, Wachapreague, VA 23480.
Unincorporated Areas of Accomack County | Accomack County Department of Building, Planning and Zoning, 23296 Courthouse Avenue, Room 105, Accomac, VA 23301.
City of Hopewell, Virginia (Independent City)
Maps Available for Inspection Online at: http://www.fema.gov/preliminaryfloodhazarddata
City of Hopewell | City Hall, 300 North Main Street, Hopewell, VA 23860.
City of Suffolk, Virginia (Independent City)
Maps Available for Inspection Online at: http://www.fema.gov/preliminaryfloodhazarddata
City of Suffolk | City Hall, 441 Market Street, Suffolk, VA 23434.
King William County, Virginia, and Incorporated Areas
Maps Available for Inspection Online at: http://www.fema.gov/preliminaryfloodhazarddata
Town of West Point | Town Hall, 329 Sixth Street, West Point, VA 23181.
Unincorporated Areas of King William County | King William County Administrator's Office, 180 Horse Landing Road, King William, VA 23086.
Middlesex County, Virginia, and Incorporated Areas
Maps Available for Inspection Online at: http://www.fema.gov/preliminaryfloodhazarddata
Town of Urbanna | Town Office, 45 Cross Street, Urbanna, VA 23175.
Unincorporated Areas of Middlesex County | Middlesex County Building Department, 877 General Puller Highway, Saluda, VA 23149.
Prince George County, Virginia, and Incorporated Areas
Maps Available for Inspection Online at: http://www.fema.gov/preliminaryfloodhazarddata
Unincorporated Areas of Prince George County | Prince George County Planning and Zoning Office, 6602 Courts Drive, 1st Floor, Prince George, VA 23875.
Prince William County, Virginia, and Incorporated Areas
Maps Available for Inspection Online at: http://www.fema.gov/preliminaryfloodhazarddata
Town of Dumfries | Town Hall, Zoning Administrator's Office, 101 South Main Street, Dumfries, VA 22026.
Town of Quantico | Town Hall, 337 Fifth Street, Quantico, VA 22134.
Unincorporated Areas of Prince William County | Prince William County Department of Public Works, Watershed Management Branch, 5 County Complex Court, Prince William, VA 22192.

(Catalog of Federal Domestic Assistance No. 97.022, “Flood Insurance.”)

Dated: January 31, 2014.
Roy E. Wright,
Deputy Associate Administrator for Mitigation, Department of Homeland Security, Federal Emergency Management Agency.

[FR Doc. 2014-05729 Filed 3-14-14; 8:45 am]

BILLING CODE 9110-12-P